DEPARTMENT OF HEALTH AND HUMAN SERVICES

Centers for Disease Control and Prevention

Statement of Organization, Functions, and Delegations of Authority; Correction

This document corrects a notice that was published in the Federal Register on Tuesday, June 16, 2015 (78 FR 34437-34438) announcing the reorganization of the National Institute for Occupational Safety and Health, Centers for Disease Control and Prevention. Replace the title of Research Branch (CCLE), with Research Branch (CCLG), and replace Conformity Verification & Standards Development Branch (CCLG), with Conformity Verification & Standards Development Branch (CCLE).

James Seligman,
Acting Chief Operating Officer, Centers for Disease Control and Prevention.

[FR Doc. 2015-22535 Filed 9-4-15; 8:45 am]

BILLING CODE 4160-18-P